DEPARTMENT OF HEALTH AND HUMAN SERVICES

Office of Public Health and Science; Announcement of Anticipated Availability of Funds for Family Planning Services Grants

AGENCY: Office of Population Affairs, OPHS, HHS.

ACTION: Notice; correction.

SUMMARY: The Office of Population Affairs, OPHS, HHS published a notice in the Federal Register of June 8, 2001 announcing the anticipated availability of funds for family planning services grants. This notice contains three errors: (1) One of the eligible Populations/areas to be served (South Carolina) was omitted; (2) Addition of this eligible area increases the total amount of funds available; and (3) The telephone number for one of the contacts for Program Requirements was incorrect. In addition, after publication of the Federal Register notice, an agency decision was made to extend the due date for those applications due, as published, on 09-01-01 until 10-01-01. This document corrects these four items.

DATES: July 31, 2001.

FOR FURTHER INFORMATION CONTACT: Kathleen Woodall, 301-594-0190; e-mail: kwoodall@osophs.dhhs.gov.

SUPPLEMENTARY INFORMATION: The Office of Population Affairs published a notice in the Federal Register of June 8, 2001 announcing the anticipated availability of funds for family planning services grnats. Table I of this notice requires two changes. Inadvertently, the State of South Carolina was not included in the list of Populations/areas to be served. In addition, an agency decision was made to extend the due date for those applications due, as published, on 09-01-01 until 10-01-01. As a result of the addition of South Carolina as an eligible area, the total amount of funds available is increased to approximately $16.5 million. This requires that the anticipated total amount of funds announced be changed to reflect the actual total. In addition, the telephone number of Christy Crosser, one of the persons to contact for further information on Program Requirements in PHS Region VIII, was incorrect. This document corrects these four items.

Correction

In the Federal Register of June 8, 2001, in FR Doc. 01-14457 make the following corrections: On page 30929, in the second column under Program Requirements, Region VIII (Colorado, Montano, North Dakota, South Dakota, Utah, Wyoming) change the telephone number for Christy Crosser to read 303-844-7849.

Also on on page 30929, in third column, correct the last line on the page to read “approximately $16.5 million will be.”

On page 30930 correct Table I to read:

Table I
Populations/Areas to be served | Approximate funding available | Application due date | Approx. grant funding date
Region I:
New Hampshire | $1,100,000 | 10-01-01 | 01-01-02
Rhode Island | 710,000 | 10-01-01 | 01-01-02
Massachusetts | 4,300,000 | 10-01-01 | 01-01-02
Region II: No competitive grants available in FY 2002.
Region III: Washington, D.C | 930,000 | 10-01-01 | 01-01-02
Region IV: South Carolina | 4,750,000 | 03-01-02 | 07-01-02
Region V: No competitive grants available in FY 2002.
Region VI: No competitive grants available in FY 2002.
Region VII: No competitive grants available in FY 2002.
Region VIII:
Wyoming | 594,000 | 10-01-01 | 01-01-02
South Dakota | 650,000 | 03-01-02 | 07-01-02
Migrant workers in the Greely, CO area | 150,000 | 06-01-02 | 09-30-02
Region IX: Gila River Indian Community | 239,000 | 03-01-02 | 07-01-02
Region X:
Oregon | 2,300,000 | 03-01-02 | 07-01-02
Alaska-Anchorage and surrounding suburbs; Homer; Sitka; Soldotna; Mat-Su Burrow | 425,000 | 03-01-02 | 07-01-02

Dated: July 25, 2001.
John Jarman,
Acting Deputy Director, Office of Population Affairs.

[FR Doc. 01-19016 Filed 7-30-01; 8:45 am]

BILLING CODE 4150-34-M